DEPARTMENT OF TRANSPORTATION

Federal Aviation Administration

34th Meeting: RTCA Special Committee 206, Aeronautical Information and Meteorological Data Link Services

AGENCY: Federal Aviation Administration (FAA), U.S. Department of Transportation (DOT).

ACTION: Meeting Notice of RTCA Special Committee 206, Aeronautical Information and Meteorological Data Link Services.

SUMMARY: The FAA is issuing this notice to advise the public of the thirty-fourth meeting of the RTCA Special Committee 206, Aeronautical Information and Meteorological Data Link Services.

DATES: The meeting will be held September 23-27, 8:30 a.m.-5:00 p.m.

ADDRESSES: The meeting will be held at United Airlines, 233 S. Wacker Drive, Chicago, IL 60606.

FOR FURTHER INFORMATION CONTACT: The RTCA Secretariat, 1150 18th Street NW., Suite 910, Washington, DC 20036, or by telephone at (202) 330-0652/(202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 206. The agenda will include the following:

Sep 23, Monday—Opening Plenary

• Introduction and opening remarks

• Approval of previous meeting minutes and Action item review

• Review and approve meeting agenda

• Sub-Groups status and week's plan

• Presentations

• SESAR Update

• Wake Vortex Safety System: Today and Tomorrow

• Flight Simulation Evaluation of AIS/MET Data Link Services in the Terminal Area

• MIT/LL Winds Study to Support ATC Winds

• SC-214 Briefing

• TOR Changes

• Other business

• Sub-Groups meetings

Sep 24-26, Tuesday-Thursday—Sub-Groups Meetings (ALL SGs)

• Tuesday—SG4: Update on SE2020 Eddy Dissipation Rate (EDR)

• Turbulence Project (9:00-11:00 AM)

• Tuesday—SG1: Open session on wake progress (1:00 PM)

• Thursday—AIS and MET Delivery Architecture Recommendations review

Sep 27, Friday, Closing Plenary

• Sub-Groups reports

• Appoval for AIS and MET Delivery Architecture Recommendations document to enter FRAC

• Action item review

• Future meeting plans and dates

• Industry Coordination: Report on SAE G-10A ARP 6467 SFO

• Other business

• Adjourn

Attendance is open to the interested public but limited to space availability. With the approval of the chairman, members of the public may present oral statements at the meeting.

Persons wishing to present statements or obtain information should contact the person listed in the FOR FURTHER INFORMATION CONTACT section. Members of the public may present a written statement to the committee at any time.

Issued in Washington, DC, on August 14, 2013.
Paige Williams,
Management Analyst, NextGen, Business Operations Group, Federal Aviation Administration.

[FR Doc. 2013-20433 Filed 8-20-13; 8:45 am]

BILLING CODE 4910-13-P